SOCIAL SECURITY ADMINISTRATION

[Docket No: SSA-2017-0009]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov

(SSA)

Social Security Administration, OLCA, Attn: Reports Clearance Director, 3100 West High Rise, 6401 Security Blvd., Baltimore, MD 21235, Fax: 410-966-2830, Email address: OR.Reports.Clearance@ssa.gov. Or you may submit your comments online through www.regulations.gov, referencing Docket ID Number [SSA-2017-0009].

I. The information collections below are pending at SSA. SSA will submit them to OMB within 60 days from the date of this notice. To be sure we consider your comments, we must receive them no later than May 8, 2017. Individuals can obtain copies of the collection instruments by writing to the above email address.

1. Representative Payee Report-Adult, Representative Payee Report-Child, Representative Payee Report-Organizational Representative Payees—20 CFR 404.635, 404.2035, 404.2065, and 416.665—0960-0068. When SSA determines it is not in an Old Age, Survivors, and Disability Insurance (OASDI) or Supplemental Security Income (SSI) recipient's best interest to receive Social Security payments directly, the agency will designate a representative payee for the recipient. The representative payee can be: (1) A family member; (2) a non-family member who is a private citizen and is acquainted with the beneficiary; (3) an organization; (4) a state or local government agency; or (5) a business. In the capacity of representative payee, the person or organization receives the SSA recipient's payments directly and manages these payments. As part of its stewardship mandate, SSA must ensure the representative payees are properly using the payments they receive for the recipients they represent. The agency annually collects the information necessary to make this assessment using the SSA-623, Representative Payee Report-Adult; SSA-6230, Representative Payee Report-Child; SSA-6234, Representative Payee Report-Organizational Representative Payees; and through the electronic internet application Internet Representative Payee Accounting (iRPA). The respondents are representative payees of OASDI and SSI recipients.

Type of Request: Revision of an OMB-approved information collection.

Modality of completion | Number of respondents | Frequency of response | Average burden per response (minutes) | Estimated total annual burden (hours)
SSA-623 | 2,812,662 | 1 | 15 | 703,166
SSA-6230 | 2,968,986 | 1 | 15 | 742,247
SSA-6234 | 719,684 | 1 | 15 | 179,921
iRPA* | 650,195 | 1 | 15 | 162,549
Totals | 7,151,527 |  |  | 1,787,883
* One Internet platform encompasses all three paper forms.

2. Annual Earnings Test Direct Mail Follow-Up Program Notices—20 CFR 404.452-404.455—0960-0369. SSA developed the Annual Earnings Test Direct Mail Follow-up Program to improve beneficiary reporting on work and earnings during the year and earnings information at the end of the year. SSA may reduce benefits payable under the Social Security Act (Act) when an individual has wages or self-employment income exceeding the annual exempt amount. SSA identifies beneficiaries likely to receive more than the annual exempt amount, and requests more frequent estimates of earnings from them. When applicable, SSA also requests a future year estimate to reduce overpayments due to earnings. SSA sends letters (SSA-L9778, SSA-L9779, SSA-L9781, SSA-L9784, SSA-L9785, and SSA-L9790) to beneficiaries requesting earnings information the month prior to their attainment of full retirement age. We send each beneficiary a tailored letter that includes relevant earnings data from SSA records. The Annual Earnings Test Direct Mail Follow-up Program helps to ensure Social Security payments are correct, and enables us to prevent earnings-related overpayments, and avoid erroneous withholding. The respondents are working Social Security beneficiaries with earnings over the exempt amount.

Type of Request: Revision of an OMB-approved information collection.

Modality of completion | Number of respondents | Frequency of response | Average burden per response (minutes) | Estimated total annual burden (hours)
SSA-L9778 | 42,630 | 1 | 10 | 7,105
SSA-L9779 | 158,865 | 1 | 10 | 26,478
SSA-L9781 | 472,437 | 1 | 10 | 78,740
SSA-L9784 | 1,270 | 1 | 10 | 212
SSA-L9785 | 15,870 | 1 | 10 | 2,645
SSA-L9790 | 45,000 | 1 | 10 | 7,500
Totals | 736,072 |  |  | 122,680

3. Request for Social Security Earnings Information—20 CFR 401.100 and 404.810—0960-0525. The Social Security Act permits wage earners, or their authorized representatives, to request Social Security earnings information from SSA using Form SSA-7050-F4. SSA uses the information the respondent provides on Form SSA-7050-F4 to verify the wage earner has: (1) Earnings; (2) the right to access the correct Social Security Record; and (3) the right to request the earnings statement. If we verify all three items, SSA produces an Itemized Statement of Earnings (Form SSA-1826) and sends it to the requestor. Respondents are wage earners and their authorized representatives who are requesting Itemized Statement of Earnings records.

Type of Request: Revision of an OMB-approved information collection.

Modality of completion | Number of respondents | Frequency of response | Average burden per response (minutes) | Estimated total annual burden (hours)
SSA-7050-F4 | 66,800 | 1 | 11 | 12,247

Cost Burden:

Type of respondent | Annual cost
Non-Certified Respondent | $2,211,105
Certified Respondent | 1,601,656
Totals | 3,812,761

II. SSA submitted the information collection below to OMB for clearance. Your comments regarding the information collection would be most useful if OMB and SSA receive them 30 days from the date of this publication. To be sure we consider your comments, we must receive them no later than April 6, 2017. Individuals can obtain copies of the OMB clearance package by writing to OR.Reports.Clearance@ssa.gov.

Questionnaire About Employment or Self-Employment Outside the United States—20 CFR 404.401(b)(1), 404.415 & 404.417—0960-0050. When a Social Security beneficiary or claimant reports work outside the United States (U.S.), SSA uses Form SSA-7163 to determine if foreign work deductions are applicable. Specifically, SSA uses Form SSA-7163 to determine: (1) Whether work the beneficiaries performed outside the United States (U.S.) is cause for deductions from their monthly benefits; (2) which of two work tests (foreign or regular test) is applicable; and (3) the number of months, if any, for SSA-imposed deductions. SSA determines whether the annual earnings test applies to all earnings from work covered by the Social Security Act, including earnings from covered work performed outside the U.S. However, because of the differences in foreign currency values, it is administratively impractical to apply this test to earnings from non-covered work performed outside the U.S. and base it on U.S. dollars. Accordingly, the 45-hour work test provides for deductions from the benefits of employees under full retirement age who engage in non-covered remunerative activity for more than 45 hours in a calendar month. SSA asks beneficiaries working outside the U.S. to complete this form annually or every other year (depending on the country of residence). Respondents are beneficiaries or claimants for Social Security benefits who are engaged in work outside the United States.

Type of Request: Revision of an OMB-approved information collection.

Modality of completion | Number of respondents | Frequency of response | Average burden per response (minutes) | Estimated total annual burden (hours)
SSA-7163 | 20,000 | 1 | 12 | 4,000

Dated: March 2, 2017.
Naomi R. Sipple,
Reports Clearance Officer, Social Security Administration.

[FR Doc. 2017-04355 Filed 3-6-17; 8:45 am]

BILLING CODE 4191-02-P